DEPARTMENT OF HOUSING AND URBAN DEVELOPMENT

[Docket No. FR-5923-N-01]

Notice of a Federal Advisory Committee Meeting; Manufactured Housing Consensus Committee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a meeting of the MHCC. The meeting is open to the public and the site is accessible to individuals with disabilities. The agenda provides an opportunity for citizens to comment on the business before the MHCC.

DATES: The meeting will be held on January 19 through January 21, 2016, from 9:00 a.m. to 5:00 p.m. Eastern Standard Time (EST).

ADDRESSES: The meeting will be held at the Kentucky Exposition Center, 937 Phillips Lane, Louisville, Kentucky 40209.

FOR FURTHER INFORMATION CONTACT: Pamela Beck Danner, Administrator, Department of Housing and Urban Development, Office of Manufactured Housing Programs, 451 7th Street SW., Room 9168, Washington, DC 20410, telephone (202) 708-6423 (this is not a toll-free number). Persons who have difficulty hearing or speaking may access this number via TTY by calling the toll-free Federal Information Relay Service at 800-877-8339.

SUPPLEMENTARY INFORMATION: Notice of this meeting provided in accordance with the Federal Advisory Committee Act, 5. U.S.C. App. 10(a)(2) through implementing regulations at 41 CFR 102-3.150. The MHCC was established by the National Manufactured Housing Construction and Safety Standards Act of 1974, 42 U.S.C. 5403 (a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulation specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC are encouraged to register before January 13, 2016, by contacting Home Innovation Research Labs, Attention: Kevin Kauffman, 400 Prince Georges Blvd., Upper Marlboro, MD 20774, or email to mhcc@homeinnovation.com. Written comments are encouraged. The MHCC strives to accommodate citizen comments to the extent possible within the time constraints of the meeting agenda. Advance registration is strongly encouraged. The MHCC will also provide an opportunity for public comment on specific matters before the MHCC.

Tentative Agenda

*Log items cited in this agenda can be reviewed at www.hud.gov/mhs

Tuesday, January 19, 2016

I. Call to Order-Chair & Designated Federal officer (DFO)

II. Opening Remarks-Chair

A. Roll-Call-Administering Organization (AO)

B. Introductions

ii. HUD Staff

ii. Guests

C. Administrative Announcements-DFO and AO

III. Approve MHCC draft minutes from August 18-20, 2015 Meeting

IV. Update on approved proposals-HUD

V. Subcommittee Reports to MHCC

A. Technical Systems Subcommittee

i. Log 116-NFPA 54 National Fuel Gas Code

ii. Log 118-UL 60335-2-40, Safety of Household and Similar Electrical Appliances, Part 2-34: Particular Requirements for Motor-Compressors

iii. Reference Standards Review—

• ANSI/ASHRAE 62.2, Ventilation and Acceptable

• Indoor Air Quality in Low-Rise Residential buildings

• ASTM E96, Standard Test Methods for Water Vapor;

• Transmission of Materials; and

• NFPA 70, National Electrical Code.

B. General Subcommittee

C. Structure and Design Subcommittee

i. Log 87-Hallway Widths

ii. Log 115-UL 1995

iii. Reference Standards Review-

• AISC Steel Construction Manual;

• NEW 272, National Evaluation report, Power Driven Staples, Nailed and Allied Fasteners for use in All Types if Building Construction;

• APA H815E, Design & Fabrication of All-Plywood Beam; and

• APA D410A, Panel Design Specification.

D. Regulatory Enforcement Subcommittee

i. Action Item 6: Shower, Bathtub and Tub-shower Combination Valve Adjustment during Installation

ii. SAA Funding Option Proposals

VI. Public Comment Period

VII. Review Current Log and Action Items

VIII. NFPA 70-2014 Task Group (Technical Systems Subcommittee)

IX. Continue Review Current Log and Action Items

X. Daily Wrap Up-DFO/AO

XI. Adjourn

Wednesday, January 20, 2016

I. Reconvene meeting-Chair & DFO

II. Opening Remarks-Chair

A. Roll-Call-Administering Organization (AO)

III. On-Site Rule Presentation

IV. Installation Program Update-SEBA Professional Services

V. Continue Review Current Log and Action Items

VI. ESR-1539 Task Group (Structure and Design Subcommittee)

VII. Structure and Design Subcommittee

A. Log 87-Hallway Widths

VIII. Structure and Design Committee Reports to MHCC

IX. FEMA Presentation

X. Public Comment

XI. Daily Wrap Up-DFO/AO

XII. Adjourn

Thursday, January 21, 2016

I. Reconvene Meeting-Chair & DFO

II. Opening Remarks-Chair

A. Roll Call-Administering Organization (AO)

III. Structure and Design Subcommittee

A. APA-H815E, Design and Fabrication of All-Plywood beam

B. APA D410A, Pane Design Specification

IV. Structure and Design Subcommittee Reports to MHCC

V. Dispute Resolution Program

VI. Public Comment

VII. Daily Wrap Up-DFO/AO

VIII. Adjourn

IX. Tour of the Louisville Manufactured Housing Show 2016.

Dated: December 22, 2015.
Teresa Baker Payne,
Deputy Administrator, Office of Manufactured Housing Programs.

[FR Doc. 2015-32799 Filed 12-28-15; 8:45 am]

BILLING CODE 4210-67-P